NATIONAL CREDIT UNION ADMINISTRATION

Agency Information Collection Activities: Proposed Collection; Comment Request; Chartering and Field of Membership

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before August 25, 2020 to be assured consideration.

ADDRESSES: Interested persons are invited to submit written comments on the information collection to Dawn Wolfgang, National Credit Union Administration, 1775 Duke Street, Suite 6032, Alexandria, Virginia 22314; Fax No. 703-519-8579; or email at PRAComments@NCUA.gov. Given the limited in-house staff because of the COVID-19 pandemic, email comments are preferred.

FOR FURTHER INFORMATION CONTACT: Address requests for additional information to Dawn Wolfgang at the email address above or telephone 703-548-2279.

SUPPLEMENTARY INFORMATION: OMB Number: 3133-0015.

Title: Chartering and Field of Membership Manual, 12 CFR 701.1, Appendix B to 701.

Type of Review: Extension of a currently approved collection.

Abstract: The Federal Credit Union Act (Act) (12 U.S.C. 1751 et al.) requires NCUA to administer chartering and field of membership requirements for Federal credit unions (FCUs). This is implemented through the Chartering and Field of Membership (Chartering) Manual as incorporated into NCUA regulations at 12 CFR 701.1 and appendix B to part 701. The Chartering Manual requires credit unions to prepare and submit forms with regard to chartering, field of membership amendments, service to underserved areas, and conversions from Federal to state credit unions and state to Federal credit unions.

The NCUA uses the information to determine if the charter application, field of membership amendment, or conversion application meets the requirements of the Act and NCUA regulations.

Affected Public: Private Sector: Not-for-profit institutions.

Estimated No. of Respondents: 8,985.

Estimated Number of Responses per Respondent: 1.

Estimated Total Annual Responses: 8,985.

Estimated Hours per Response: 2.11.

Estimated Total Annual Burden Hours: 18,994.

Reason for Change: Adjustment have been make reflect the current number of respondents reporting and a more accurate accounting of the time needed to respond.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on June 22, 2020.

Dated: June 22, 2020.
Dawn D. Wolfgang,
NCUA PRA Clearance Officer.

[FR Doc. 2020-13761 Filed 6-25-20; 8:45 am]

BILLING CODE 7535-01-P